NATIONAL SCIENCE FOUNDATION

Notice of Meeting for the Proposal Review Panel for Physics; Correction

ACTION: Notice; correction.

SUMMARY: The National Science Foundation (NSF) published a document in the Federal Register of March 26, 2021, concerning a Part-open, 2-day, virtual site visit meeting for the Proposal Review Panel for Physics. The virtual site visit will be changed to a closed meeting.

FOR FURTHER INFORMATION CONTACT: Please contact Crystal Robinson, crrobins@nsf.gov or 703-292-8687.

SUPPLEMENTARY INFORMATION:

Correction

In the Federal Register published March 26, 2021, in FR Doc. 2021-06220 (Filed 3-25-21), on page 16239, first column, Type of Meeting Section, please change the meeting type to Closed.

Dated: March 26, 2021.
Crystal Robinson,
Committee Management Officer, National Science Foundation.

[FR Doc. 2021-06622 Filed 3-30-21; 8:45 am]

BILLING CODE 7555-01-P